DEPARTMENT OF AGRICULTURE

Office of the Secretary

Privacy Act System of Records; APHIS National Animal Identification System (NAIS); Notice of Indefinite Suspension of Effective Date

AGENCY: Office of the Secretary, USDA.

ACTION: Proposed new system of records notice; notice of indefinite suspension of effective date.

SUMMARY: This notice suspends indefinitely the effective date for the proposed new Privacy Act system of records entitled “National Animal Identification System (NAIS), USDA/APHIS-16,” published at 73 FR 23412 on April 30, 2008.

DATES: This notice of suspension is hereby effective immediately.

FOR FURTHER INFORMATION CONTACT: Ms. Barbara S. Good, Attorney-Advisor, Office of the General Counsel, General Law Division, Room 3311 South Agriculture Building, 1400 Independence Avenue, SW., Washington, DC 20250-1415. Ms. Good may also be reached at 202-720-8045, or barbara.good@ogc.usda.gov.

SUPPLEMENTARY INFORMATION: Although USDA published notice under the Privacy Act of this proposed new system with an effective date of June 9, 2008, in an intervening civil action entitled “Mary-Louise Zanoni v. United States Department of Agriculture, Civil Action No.: 08-939 (EGS),” the U.S. District Court District of Columbia has ordered USDA to transmit a notice to the Federal Register suspending the effective date of June 9, 2008, pending further order of the Court. This notice reflects compliance with the District Court's order of June 4, 2008, to suspend the effective date of the notice of new Privacy Act system.

Report on a New System of Records: A report on this indefinite suspension of the effective date for a proposed new system of records, required by 5 U.S.C. 552a(r), as implemented by OMB Circular A-130, was sent to the Chairman, Committee on Homeland Security and Governmental Affairs, United States Senate; the Chairman, Committee on Oversight and Government Reform, House of Representatives; and the Administrator, Office of Information and Regulatory Affairs, Office of Management and Budget.

Dated: June 6, 2008.
Edward T. Schafer,
Secretary.

[FR Doc. E8-13065 Filed 6-9-08; 8:45 am]

BILLING CODE 3410-34-P